Title 3—

The President

Proclamation 7313 of May 24, 2000

Day of Honor, 2000

By the President of the United States of America

A Proclamation

Fifty-five years ago this month, the torch of freedom burned bright in Europe once again as Nazi Germany surrendered to the Allied Forces. Four months later, with the defeat of Imperial Japan, World War II—history's bloodiest and most destructive conflict—finally came to an end.

That war's unprecedented threat to world peace, freedom, and human rights called forth an unprecedented response from the American people. United and determined after the attack on Pearl Harbor in 1941, American men and women poured into factories and shipyards, working around the clock to build ships, planes, tanks, and guns. Millions of others risked their lives to defend our Nation and preserve the ideals of democracy. By the war's end, some 15 million had served in our Armed Forces, including more than 1,200,000 African Americans, 300,000 Hispanic Americans, 50,000 Asian Americans, 20,000 Native Americans, 6,000 Native Hawaiians and Pacific Islanders, and 3,000 Native Alaskans.

These minority members of our Armed Forces served with honor and distinction in battles around the globe. Many of them—like the Tuskegee Airmen, the Japanese American troops of the Army's “Go For Broke” regiment, and the Native American Code Talkers who played a vital role in winning the war in the Pacific—were renowned for their bravery and dedication. America's minority veterans fought other important battles as well—battles against prejudice, ignorance, and discrimination. Many gave their lives on foreign soil for the freedom they had never fully shared at home. Many of those who survived returned home from the war and worked to make real in America the ideals for which they had fought so hard and for which so many of their comrades in arms had died.

On this Day of Honor, we have the opportunity—and the responsibility—to acknowledge the contributions our minority veterans have made to the peace and freedom we enjoy today. I ask my fellow citizens to join me in saluting the African American, Hispanic American, Asian American, Native American, Native Hawaiian, Pacific Islander, Native Alaskan, and other minority members who served so valiantly in our Armed Forces during World War II and to remember those who died in service to our country. Their extraordinary devotion to duty is a reminder to us all that our Nation's diversity is not a cause for division, but rather one of our greatest strengths.

The Congress, by Senate Joint Resolution 44, has authorized and requested the President to issue a proclamation in recognition of the minority veterans who served in World War II.

NOW, THEREFORE, I, WILLIAM J. CLINTON, President of the United States of America, do hereby proclaim May 25, 2000, as the Day of Honor, 2000. I call upon all Americans to observe this day with appropriate programs, ceremonies, and activities paying tribute to the service and sacrifice of the minority veterans of our Armed Forces who served during World War II.

IN WITNESS WHEREOF, I have hereunto set my hand this twenty-fourth day of May, in the year of our Lord two thousand, and of the Independence of the United States of America the two hundred and twenty-fourth.

wj

[FR Doc. 00-13675

Filed 5-30-00; 8:45 am]

Billing code 3195-01-P